DEPARTMENT OF TRANSPORTATION

Federal Aviation Administration

14 CFR Part 39

[Docket No. FAA-2021-0883; Project Identifier AD-2021-00307-T; Amendment 39-21950; AD 2022-04-08]

RIN 2120-AA64

Airworthiness Directives; Airbus SAS Airplanes

AGENCY: Federal Aviation Administration (FAA), DOT.

ACTION: Final rule.

SUMMARY: The FAA is superseding Airworthiness Directive (AD) 2020-16-01, which applied to all Airbus SAS Model A318, A319, A320, and A321 series airplanes. AD 2020-16-01 required repetitive cleaning and greasing of affected cargo door seals (both original equipment manufacturer (OEM) and parts manufacturer approval (PMA) parts). This AD was prompted by reports of low halon concentration in the forward and aft cargo compartments due to air leakage through cargo compartment door seals, and the FAA's determination that improved cargo door seals must be installed and that certain flight operations must be limited until the improved cargo door seals are installed. This AD retains certain actions required by AD 2020-16-01 and requires replacing certain forward and aft cargo compartment door seals with new seals and installing a placard on the cargo compartment doors; and for certain airplanes, revising the existing airplane flight manual (AFM) to implement an operational limitation for certain routes. The FAA is issuing this AD to address the unsafe condition on these products.

DATES: This AD is effective April 11, 2022.

The Director of the Federal Register approved the incorporation by reference of certain publications listed in this AD as of April 11, 2022.

The Director of the Federal Register approved the incorporation by reference of a certain other publication listed in this AD as of October 20, 2021 (86 FR 51265, September 15, 2021).

ADDRESSES: For Airbus service information identified in this final rule, contact Airbus SAS, Airworthiness Office—EIAS, Rond-Point Emile Dewoitine No: 2, 31700 Blagnac Cedex, France; telephone +33 5 61 93 36 96; fax +33 5 61 93 44 51; email account.airworth-eas@airbus.com; internet http://www.airbus.com. For European Union Aviation Safety Agency (EASA) material identified in this final rule, contact EASA, Konrad-Adenauer-Ufer 3, 50668 Cologne, Germany; telephone +49 221 8999 000; email ADs@easa.europa.eu; internet www.easa.europa.eu. You may find this material on the EASA website at https://ad.easa.europa.eu. You may view this service information at the FAA, Airworthiness Products Section, Operational Safety Branch, 2200 South 216th St., Des Moines, WA. For information on the availability of this material at the FAA, call 206-231-3195. It is also available at https://www.regulations.gov by searching for and locating Docket No. FAA-2021-0883.

Examining the AD Docket

You may examine the AD docket at https://www.regulations.gov by searching for and locating Docket No. FAA-2021-0883; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: John Marshall, Aerospace Engineer, Airframe Section, FAA, Atlanta ACO Branch, 1701 Columbia Avenue, College Park, GA 30337; phone: 404-474-5524; fax: 404-474-5606; email: John.R.Marshall@faa.gov.

SUPPLEMENTARY INFORMATION:

Background

The FAA issued a notice of proposed rulemaking (NPRM) to amend 14 CFR part 39 to supersede AD 2020-16-01, Amendment 39-21185 (85 FR 47013, August 4, 2020) (AD 2020-16-01). AD 2020-16-01 applied to all Airbus SAS Model A318, A319, A320, and A321 series airplanes. AD 2020-16-01 required repetitive cleaning and greasing of affected cargo door seals (both OEM and PMA parts). The NPRM published in the Federal Register on October 22, 2021 (86 FR 58597). The NPRM was prompted by reports of low halon concentration in the forward and aft cargo compartments due to air leakage through cargo compartment door seals, and the FAA's determination that additional rulemaking is necessary to require replacement of PMA part number (P/N) D5237106020400S with improved cargo door seals and to limit certain flight operations until the improved cargo door seals are installed. In the NPRM, the FAA proposed to retain certain actions required by AD 2020-16-01; require replacing certain forward and aft cargo compartment door seals with new seals and installing a placard on the cargo compartment doors; and for certain airplanes, implement an operational limitation for certain routes. In the NPRM, the FAA proposed to limit the applicability to airplanes that have certain PMA parts installed because the FAA issued AD 2021-18-04, Amendment 39-21705 (86 FR 51265, September 15, 2021) (AD 2021-18-04) to address the OEM parts.

The FAA is issuing this AD to address low halon concentration. This condition, if not corrected, could affect the fire extinguishing system efficiency in the cargo compartments, possibly resulting in failure of the system to contain a cargo compartment fire.

Discussion of Final Airworthiness Directive

Comments

The FAA received comments from Air Line Pilots Association, Inc. (ALPA), who supported the NPRM without change, and United Airlines, who also supported the NPRM. The FAA also received additional comments from United Airlines. The following presents the comments received on the NPRM and the FAA's response to each comment.

Request for Clarification if the Proposed AD Replaces or Supersedes a Certain AD

United Airlines requested that the FAA clarify whether the proposed AD would “supersede” AD 2020-16-01, as specified in the SUMMARY of the NPRM, or would “replace” AD 2020-16-01, as specified in paragraph (b) of the proposed AD.

The FAA agrees to clarify. The words supersede and replace have the same meaning and are interchangeable. The word “replace” used in paragraph (b) of this AD is required by the Office of the Federal Register. The FAA has not changed this AD in this regard.

Request To Allow Later Revisions of Service Information

United Airlines requested that the FAA allow the use of later approved revisions of Airbus Service Bulletin A320-52-1195, Revision 01, dated December 15, 2020, and Airbus Service Bulletin A320-52-1196, dated October 12, 2020, as acceptable methods of compliance with the requirements of the new proposed AD.

The FAA may not refer to any document that does not yet exist in an AD. In general terms, the FAA is required by Office of the Federal Register (OFR) regulations for approval of materials incorporated by reference, as specified in 1 CFR 51.1(f), to either publish the service document contents as part of the actual AD language; or submit the service document to the OFR for approval as referenced material, in which case the FAA may only refer to such material in the text of an AD. The AD may refer to the service document only if the OFR approved it for incorporation by reference. See 1 CFR part 51.

To allow operators to use later revisions of the referenced document (issued after publication of the AD), either the FAA must revise the AD to reference specific later revisions, or operators must request approval to use later revisions as an alternative method of compliance with this AD under the provisions of paragraph (m) of this AD.

Inquiry Regarding Affected AD Number in AD 2018-18-04

United Airlines stated that paragraph (b) of AD 2021-18-04, “Affected ADs,” refers to AD 2020-16-01. United Airlines inquired whether the FAA is planning to revise the “Affected ADs” paragraph of AD 2021-18-04 with the new proposed AD number that is superseding or replacing AD 2020-16-01.

The FAA agrees to clarify. AD 2021-18-04 applies only to OEM parts and affects AD 2020-16-01 because AD 2020-16-01 applied to both OEM parts and PMA parts. This AD applies only to PMA parts and supersedes AD 2020-16-01. The terminating actions for cleaning and greasing as required by AD 2021-18-04, AD 2020-16-01, and this new AD (that will replace AD 2020-16-01), are the same: Replace the seals with new seal part numbers as specified in the service information. However, AD 2021-18-04 does not affect this AD as each AD is independent of each other. It is not necessary to change paragraph (b) of AD 2021-18-04 to refer to this AD because this AD does not contain any requirements for OEM parts.

Clarification of Operational Limitation

Paragraph (j) of the proposed AD included an operational limitation and specified that amending the existing AFM was one method to comply with the requirement. The FAA has determined that revising the existing AFM is the method most operators would use to comply with the requirement. In addition, the FAA determined the AFM revision should refer to the operational limitation language as specified in a figure for clarity. The FAA has revised paragraph (j) of this AD to require revising the existing AFM to include an operational limitation specified in figure 1 to paragraph (j) of this AD. Operators may request an alternative method of compliance using the procedures specified in paragraph (m) of this AD if they have alternative methods to comply with the operational limitations that provide an equivalent level of safety.

Conclusion

The FAA reviewed the relevant data, considered any comments received, and determined that air safety requires adopting this AD as proposed. Except for minor editorial changes, this AD is adopted as proposed in the NPRM. None of the changes will increase the economic burden on any operator.

Related Service Information Under 1 CFR Part 51

The FAA reviewed Airbus Service Bulletin A320-52-1195, Revision 01, dated December 15, 2020, and Airbus Service Bulletin A320-52-1196, dated October 12, 2020. This service information specifies procedures for replacing the forward and aft cargo compartment door seals with new seals, among other actions, and installing a placard on the cargo compartment doors. These documents are distinct since they apply to different airplane models.

This AD also requires European Union Aviation Safety Agency (EASA) AD 2021-0049, dated February 18, 2021, which the Director of the Federal Register approved for incorporation by reference as of October 20, 2021 (86 FR 51265, September 15, 2021).

This service information is reasonably available because the interested parties have access to it through their normal course of business or by the means identified in ADDRESSES.

Costs of Compliance

The FAA estimates that this AD affects 1,768 airplanes of U.S. registry. The FAA estimates the following costs to comply with this AD:

Estimated Costs
Action | Labor cost | Parts cost | Cost per product | Cost on U.S. operators
Cleaning and greasing (retained actions from AD 2020-16-01) | 1 work-hour × $85 per hour = $85, per cleaning/greasing cycle | $0 | $85, per cleaning/greasing cycle | $150,280, per cleaning/greasing cycle.
Cargo door seal replacement and placard installation (new action) | 8 work-hours × $85 per hour = $680 | Up to $5,680 | Up to $6,360 | Up to $11,244,480.
AFM revision (new action) | 1 work-hour × $85 per hour = $85 | $0 | $85 | Up to $150,280 (Group 3 airplanes only).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2020-16-01, Amendment 39-21185 (85 FR 47013, August 4, 2020); and

b. Adding the following new AD:

2022-04-08 Airbus SAS: Amendment 39-21950; Docket No. FAA-2021-0883; Project Identifier AD-2021-00307-T.

(a) Effective Date

This airworthiness directive (AD) is effective April 11, 2022.

(b) Affected ADs

This AD replaces AD 2020-16-01, Amendment 39-21185 (85 FR 47013, August 4, 2020) (AD 2020-16-01).

(c) Applicability

This AD applies to the Airbus SAS airplanes identified in paragraphs (c)(1) through (4) of this AD, certificated in any category, equipped with any parts manufacturer approval (PMA) part approved for the type design forward and aft cargo compartment door seal part number (P/N) D5237106020400, including but not limited to PMA P/N D5237106020400S.

(1) Model A318-111, -112, -121, and -122 airplanes.

(2) Model A319-111, -112, -113, -114, -115, -131, -132, -133, -151N, -153N, and -171N airplanes.

(3) Model A320-211, -212, -214, -215, -216, -231, -232, -233, -251N, -252N, -253N, -271N, -272N, and -273N airplanes.

(4) Model A321-111, -112, -131, -211, -212, -213, -231, -232, -251N, -251NX, -252N, -252NX, -253N, -253NX, -271N, -271NX, -272N, and -272NX airplanes.

(d) Subject

Air Transport Association (ATA) of America Code 26, Fire protection; 52, Doors.

(e) Unsafe Condition

This AD was prompted by reports of low halon concentration in the forward and aft cargo compartments due to air leakage through cargo compartment door seals, and the certification of improved cargo door seals. The FAA is issuing this AD to address low halon concentration. This condition, if not corrected, could affect the fire extinguishing system efficiency in the cargo compartments, possibly resulting in failure of the system to contain a cargo compartment fire.

(f) Compliance

Comply with this AD within the compliance times specified, unless already done.

(g) Definition

For the purposes of this AD, a “PMA part” is defined as any PMA part approved for the type design forward and aft cargo compartment door seal P/N D5237106020400, including but not limited to PMA P/N D5237106020400S.

(h) Retained Cleaning and Greasing, With Revised Compliance Language

This paragraph restates the requirements of paragraph (g) of AD 2020-16-01, with revised compliance language. Within 6 months after the airplane date of manufacture, or 3 months after August 19, 2020 (the effective date of AD 2020-16-01), whichever occurs later, and, thereafter, at intervals not exceeding 6 months, clean and grease each PMA part, in accordance with the instructions specified in paragraph (1) or (2) of European Union Aviation Safety Agency (EASA) AD 2021-0049, dated February 18, 2021. Accomplishing the actions required by paragraph (i) of this AD on an airplane terminates the actions required by this paragraph for that airplane only, and for the specific cargo door locations with PMA parts only.

(i) Modification

Within 96 months after the effective date of this AD, replace the seals of the PMA part with new seals and install a placard on the cargo compartment doors, in accordance with the method specified in paragraph (i)(1) or (2) of this AD. Accomplishing the actions required by this paragraph terminates the actions required by paragraph (h) of this AD for that airplane only, and for the specific cargo door locations where PMA parts were replaced only.

(1) Do the actions in accordance with the Accomplishment Instructions of Airbus Service Bulletin A320-52-1195, Revision 01, dated December 15, 2020, or Airbus Service Bulletin A320-52-1196, dated October 12, 2020, as applicable, except where the procedures refer to P/N D5237106020400, those procedures must be used for the PMA part.

(2) Do the actions in accordance with the procedures specified in paragraph (m)(1) of this AD.

(j) Airplane Flight Manual (AFM) Revision—Operational Limitation

For Model A319 airplanes on which Airbus mod 26402, mod 34881 or mod 34882 has been embodied in production, or Airbus Service Bulletin A320-26-1066 or Airbus Service Bulletin A320-26-1076 has been embodied in service: Within 9 months or 1,600 flight hours after the effective date of this AD, whichever occurs later, revise the Limitations section of the existing AFM to incorporate the information specified in Figure 1 to paragraph (j) of this AD. This may be done by inserting a copy of figure 1 to paragraph (j) of this AD into the Limitations Section of the existing AFM. Accomplishing the modification required by paragraph (i) of this AD terminates the requirements of this paragraph, and after the modification has been done, the AFM limitation required by this paragraph must be removed from the existing AFM before further flight after the modification.

(k) Credit for Previous Actions

(1) This paragraph provides credit for the actions specified in paragraph (h) of this AD, if those actions were performed before the effective date of this AD using Airbus Technical Adaption 80774334/003/2020, Issue 1, dated April 1, 2020.

(2) This paragraph provides credit for the actions specified in paragraph (h) of this AD, if those actions were performed before the effective date of this AD using EASA AD 2020-0133, dated June 10, 2020 (which was incorporated by reference in AD 2020-16-01).

(3) This paragraph provides credit for the actions specified in paragraph (i) of this AD, if those actions were performed before the effective date of this AD using Airbus Service Bulletin A320-52-1195, dated October 12, 2020.

(l) Parts Installation Prohibition

Do not install a PMA part, or a door equipped with a PMA part, on any airplane, as required by paragraph (l)(1) or (2) of this AD, as applicable.

(1) For airplanes with a PMA part installed as of the effective date of this AD: After modification of the airplane as required by paragraph (i) of this AD.

(2) For airplanes that do not have a PMA part installed as of the effective date of this AD: As of the effective date of this AD.

(m) Alternative Methods of Compliance (AMOCs)

(1) The Manager, Atlanta ACO Branch, FAA, has the authority to approve AMOCs for this AD, if requested using the procedures found in 14 CFR 39.19. In accordance with 14 CFR 39.19, send your request to your principal inspector or responsible Flight Standards Office, as appropriate. If sending information directly to the manager of the certification office, send it to the attention of the person identified in Related Information.

(2) Before using any approved AMOC, notify your appropriate principal inspector, or lacking a principal inspector, the manager of the responsible Flight Standards Office.

(3) Contacting the Manufacturer: For any requirement in this AD to obtain instructions from a manufacturer, the instructions must be accomplished using a method approved by the Manager, Atlanta ACO Branch, FAA.

(4) Required for compliance (RC): Except as specified by paragraph (m)(3) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(n) Related Information

(1) For more information about this AD, contact John Marshall, Aerospace Engineer, Airframe Section, FAA, Atlanta ACO Branch, 1701 Columbia Avenue, College Park, GA 30337; phone: 404-474-5524; fax: 404-474-5606; email: John.R.Marshall@faa.gov.

(2) Service information identified in this AD that is not incorporated by reference is available at the addresses specified in paragraphs (o)(5), (6), and (7) of this AD.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on April 11, 2022.

(i) Airbus Service Bulletin A320-52-1195, Revision 01, dated December 15, 2020.

(ii) Airbus Service Bulletin A320-52-1196, dated October 12, 2020.

(4) The following service information was approved for IBR on October 20, 2021 (86 FR 51265, September 15, 2021).

(i) European Union Aviation Safety Agency (EASA) AD 2021-0049, dated February 18, 2021.

(ii) [Reserved]

(5) For Airbus service information identified in this AD, contact Airbus SAS, Airworthiness Office—EIAS, Rond-Point Emile Dewoitine No: 2, 31700 Blagnac Cedex, France; telephone +33 5 61 93 36 96; fax +33 5 61 93 44 51; email account.airworth-eas@airbus.com; internet http://www.airbus.com.

(6) For EASA AD 2021-0049, contact the EASA, Konrad-Adenauer-Ufer 3, 50668 Cologne, Germany; telephone +49 221 8999 000; email ADs@easa.europa.eu; internet www.easa.europa.eu. You may find this EASA AD on the EASA website at https://ad.easa.europa.eu.

(7) You may view this service information at the FAA, Airworthiness Products Section, Operational Safety Branch, 2200 South 216th St., Des Moines, WA. For information on the availability of this material at the FAA, call 206-231-3195.

(8) You may view this service information that is incorporated by reference at the National Archives and Records Administration (NARA). For information on the availability of this material at NARA, email fr.inspection@nara.gov, or go to: https://www.archives.gov/federal-register/cfr/ibr-locations.html.

Issued on February 11, 2022.
Lance T. Gant,
Director, Compliance & Airworthiness Division, Aircraft Certification Service.

[FR Doc. 2022-04665 Filed 3-4-22; 8:45 am]

BILLING CODE 4910-13-P